DEPARTMENT OF AGRICULTURE

Commodity Credit Corporation

Domestic Sugar Program—FY 2023 Reassignment and FY 2024 Overall Sugar Marketing Allotment, Cane Sugar and Beet Sugar Marketing Allotments and Company Allocations

AGENCY: Commodity Credit Corporation, USDA.

ACTION: Notice.

SUMMARY: The United States Department of Agriculture (USDA) is issuing this notice to: revise fiscal year (FY) 2023 (crop year 2022) State cane sugar allotments and allocations to sugarcane processors; reassign FY 2023 cane sugar marketing allocations to raw cane sugar imports already anticipated; and announce the FY 2024 (crop year 2023) overall sugar marketing allotment quantity (OAQ), State cane sugar allotments, and sugar beet and sugarcane processor allocations. The actions to revise and reassign apply to all domestic cane sugar marketed for human consumption in the United States from October 1, 2022, through September 30, 2023, and the action to announce the allocations applies to all domestic beet and cane sugar marketed for human consumption in the United States from October 1, 2023, through September 30, 2024.

FOR FURTHER INFORMATION CONTACT: Kent Lanclos, telephone, (202) 720-0114; or email, kent.lanclos@usda.gov. Individuals who require alternative means of communication should contact the USDA TARGET Center at (202) 720-2600 (voice and text telephone (TTY)) or dial 711 for Telecommunications Relay Service (both voice and text telephone users can initiate this call from any telephone).

SUPPLEMENTARY INFORMATION:

Revisions and Reassignments of FY 2023 Sugar Cane Allotments and Allocations

The Agricultural Adjustment Act of 1938, as amended requires USDA to establish the OAQ at a quantity not less than 85 percent of the estimated quantity of sugar for domestic human consumption for the crop year. On September 30, 2022, USDA announced the initial FY 2023 OAQ, which was established at 10,646,250 short tons, raw value (STRV), equal to 85 percent of 12,525,000 STRV, the estimated quantity of sugar for domestic human consumption for the year as forecast in the September 2022 World Agricultural Supply and Demand Estimates report (WASDE). The notice was issued in the Federal Register on September 30, 2022 (87 FR 59390-59391). USDA requires that 54.35 percent of the OAQ be distributed among beet processors and 45.65 percent be distributed among the sugarcane States and cane processors. The beet and cane sector allotments were distributed to individual processors according to formulas prescribed by the Agricultural Adjustment Act of 1938 (7 U.S.C. 1359aa-1359jj) and 7 CFR part 1435.

In the March 2023 WASDE release, USDA increased the FY 2023 estimate of sugar consumption for food use to 12,600,000 STRV. As a result, USDA increased the FY 2023 OAQ to 10,710,000 STRV, increased the beet sector allotment to 5,820,885 STRV, raised the cane sector allotment to 4,889,115 STRV, and revised beet and cane processor allocations accordingly. This notice was issued in the Federal Register notice on April 11, 2023 (88 FR 21704-21606).

In accordance with section 359e of the Agricultural Adjustment Act of 1938 (7 U.S.C. 1359ee), after evaluating each sugarcane processor's ability to market its full allocation, USDA is transferring FY 2023 allocations from sugarcane processors with surplus allocation to those with deficit allocation as shown in the table below. USDA has also determined that domestic cane sugar supplies are inadequate to fill the FY 2023 cane sugar marketing allotment.

In accordance with 7 U.S.C. 1359ee(b)(2), USDA is reassigning 100,000 STRV of the deficit to raw cane sugar imports already anticipated, given the absence of any Commodity Credit Corporation (CCC) stocks of sugar. In Table 1 below, each sugar cane processor's allocation following these changes is shown in the column labeled “Revised Allocations & Allotments” and the amount of change in each cane processor's allocation in the column labeled “Reassignments.”

USDA is not reassigning any FY 2023 beet allocations to raw cane sugar imports at this time given the uncertainty about how much beet sugar will be produced from new crop sugar beets in the final 2 months (August-September) of FY 2023.

Table 1—Revision of FY 2023 State Allotments, Cane Processor Allocations and Reassignment to Raw Cane Sugar Imports Already Anticipated
Distribution | Initial FY23 allotments & allocations | FY23 revisions 4/11/23 | Reassignments | Revised allotments & allocations
Beet Sugar | 5,786,237 | 5,570,885 | 0 | 5,570,885
Cane Sugar | 4,860,013 | 4,389,115 | −100,000 | 4,289,115
Beet Reassign to Raw Cane Sugar Imports |  | 250,000 | 0 | 250,000
Cane Reassign to Raw Cane Sugar Imports |  | 500,000 | 100,000 | 600,000
Total OAQ | 10,646,250 | 10,710,000 | 0 | 10,710,00
Amalgamated Sugar | 1,238,877 | 1,193,737 | 0 | 1,193,737
American Crystal Sugar | 2,128,113 | 2,039,915 | 0 | 2,039,915
Michigan Sugar | 597,577 | 707,281 | 0 | 707,281
Minn-Dak Farmers Coop | 401,848 | 419,754 | 0 | 419,754
So Minn Beet Sugar | 780,958 | 650,595 | 0 | 650,595
Western Sugar | 590,415 | 515,519 | 0 | 515,519
Wyoming Sugar | 48,449 | 44,085 | 0 | 44,085
Total Beet Sugar | 5,786,237 | 5,570,885 | 0 | 5,570,885
Florida | 2,612,146 | 2,152,475 | −104,118 | 2,048,357
Louisiana | 2,020,789 | 2,134,997 | 20,528 | 2,155,525
Texas | 227,078 | 101,643 | −16,410 | 85,233
Total Cane Sugar | 4,860,013 | 4,389,115 | −100,000 | 4,289,115
Florida:
Florida Crystals | 1,075,489 | 772,420 | −62,806 | 709,614
Growers Cooperative | 469,887 | 406,257 | −6,757 | 399,501
U.S. Sugar | 1,066,770 | 973,798 | −34,556 | 939,242
Total Florida | 2,612,146 | 2,152,475 | −104,118 | 2,048,357
Louisiana:
Sugar Growers and Refiners | 1,402,896 | 1,463,932 | 20,528 | 1,484,460
M.A. Patout | 617,893 | 671,065 | 0 | 671,065
Total Louisiana | 2,020,789 | 2,134,997 | 20,528 | 2,155,525
Texas:
Rio Grande Valley | 227,078 | 101,643 | −16,410 | 85,233
* Values may not sum to row or column totals due to rounding.

FY 2024 Overall Sugar Marketing Allotment, Cane Sugar and Beet Sugar Marketing Allotments, and Company Allocations

USDA is establishing the initial FY 2024 (crop year 2023) OAQ at 10,667,500 STRV, equal to 85 percent of 12,550,000 STRV, the estimated quantity of sugar for domestic human consumption for FY 2024 as forecast in the September 2023 WASDE. As noted above, 54.35 percent of the OAQ is distributed among beet processors and 45.65 percent is distributed among the sugarcane States and cane processors, with the beet and cane sector allotments distributed to individual processors according to formulas set out in the Agricultural Adjustment Act of 1938 and 7 CFR part 1435. Although the Act directs USDA to assign 325,000 STRV of the cane sector allotment to “offshore States,” CCC has determined that no offshore States exist. While sugar cane was formerly produced in Puerto Rico and Hawaii, CCC has determined that both States have permanently exited sugarcane production. As a result, CCC has allocated the 325,000 STRV of the cane sector allotment previously reserved for offshore States to the mainland sugarcane producing States. The initial FY 2024 sugar marketing State allotments and processor allocations are listed in Table 2 below.

Table 2—Initial FY 2024 State Allotments and Beet and Cane Processor Allocations
Distribution | Initial FY 2024 allotments & allocations
Beet Sugar | 5,797,786
Cane Sugar | 4,869,714
Total OAQ | 10,667,500
Amalgamated Sugar | 1,241,350
American Crystal Sugar | 2,132,371
Michigan Sugar | 598,769
Minn-Dak Farmers Coop | 402,650
So Minn Beet Sugar | 782,517
Western Sugar | 591,583
Wyoming Sugar | 48,546
Total Beet Sugar | 5,797,786
Florida | 2,617,360
Louisiana | 2,024,823
Texas | 227,531
Total Cane Sugar | 4,869,714
Florida:
Florida Crystals | 1,077,635
Growers Cooperative | 470,825
U.S. Sugar | 1,068,900
Total Florida | 2,617,360
Louisiana:
Sugar Growers and Refiners | 1,405,697
M.A. Patout | 619,126
Total Louisiana | 2,024,823
Texas:
Rio Grande Valley | 227,531
* Values may not sum to column totals due to rounding.

USDA will closely monitor stocks, consumption, imports and all sugar market and program variables on an ongoing basis and may make program adjustments during FY 2024 if needed.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency, and Executive Vice President, Commodity Credit Corporation.

[FR Doc. 2023-22638 Filed 10-12-23; 8:45 am]

BILLING CODE 3411-E2-P